DEPARTMENT OF DEFENSE

Department of the Army

[Docket ID: USA-2008-0074]

Privacy Act of 1974; System of Records

AGENCY: Department of the Army, DoD.

ACTION: Notice to amend a system of records.

SUMMARY: The Department of the Army is amending a system of records notice in its existing inventory of record systems subject to the Privacy Act of 1974, (5 U.S.C. 552a), as amended.

DATES: This proposed action will be effective without further notice on November 14, 2008 unless comments are received which result in a contrary determination.

ADDRESSES: Department of the Army, Privacy Office, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: October 7, 2008.
Patricia L. Toppings,
OSD Federal Register Liaison Officer, Department of Defense.

A0614-115 DAMI

System name:

Department of the Army Operational Support Activities (October 4, 1995, 60 FR 51996).

Changes:

* * * * *

System location:

Delete entry and replace with “Investigative Records Repository, U.S. Army Intelligence and Security Command, 902d Military Intelligence Group, ATTN: IAMG-CIC-IRR, Fort Meade, MD 20755-5995.”

* * * * *

Storage:

Delete entry and replace with “Paper records in file folders and on electronic storage media.”

* * * * *

Safeguards:

Delete entry and replace with “Buildings employ alarms, security guards and or rooms are security controlled areas accessible only to authorized persons. Paper records are maintained in General Service Administration approved security containers. Electronic records are maintained in specialized software with password protected access and data backup measures. Records are accessible only to authorized persons who are properly screened, cleared, and trained.”

* * * * *

Notification procedure:

Delete entry and replace with “Individuals seeking to determine whether information about themselves is contained in this system should address written inquiries to the United States Army Intelligence and Security Command, Freedom of Information/Privacy Office, 4552 Pike Road, Fort Meade, MD 20755-5995.

Individuals must furnish his/her full name, any alias, Social Security Number, date and place of birth, current address, telephone number, and a notarized signature or contact 1-866-548-5651 or e-mail the INSCOM FOIA office at INSCOM_FOIA_ServiceCenter@mi.army.mil.”

Record access procedures:

Delete entry and replace with “Individuals seeking to determine whether information about themselves is contained in this system should address written inquiries to the United States Army Intelligence and Security Command, Freedom of Information/Privacy Office, 4552 Pike Road, Fort Meade, MD 20755-5995.

Individuals must furnish his/her full name, any alias, Social Security Number, date and place of birth, current address, telephone number, and a notarized signature or contact 1-866-548-5651 or e-mail the INSCOM FOIA office at INSCOM_FOIA_ServiceCenter@mi.army.mil.”

* * * * *

Record source categories:

Delete entry and replace with “From the individual and investigative reports of Defense Security Service, U.S. Army Intelligence and Security Command, and other Federal and Department of Defense investigative and law enforcement agencies.”

* * * * *

A0614-115 DAMI

System name:

Department of the Army Operational Support Activities.

System location:

Investigative Records Repository, U.S. Army Intelligence and Security Command, 902d Military Intelligence Group, ATTN: IAMG-CIC-IRR, Fort Meade, MD 20755-5995.

U.S. Army Field Support Center, U.S. Army Intelligence and Security Command, Fort George G. Meade, MD 20755-5905.

Categories of individuals covered by the system:

Selected members of the U.S. Army who participate in and have received support for conducting U.S. Army intelligence and counterintelligence duties. Included are personnel of other Federal agencies who request and receive support from appropriate authority.

Categories of records in the system:

Personnel files containing information such as autobiographies, financial statements, psychological test results, photographs of the applicants and spouse, and probationary/tenure reports with electronic index of individuals who have received support from DA in completing specialized duties within the Army's intelligence and counterintelligence activities. Files and duplicate electronic files of individuals indicating any identity and other data which may be used to identify them in their support of the DA's intelligence and counterintelligence activities.

Authority for maintenance of the system:

10 U.S.C. 3013; National Security Act of 1947, as amended; E.O. 10450, Security Requirements for Government Employees, sections 2, 3, 4, 5, 6, 7, 8, 9, and 14; E.O. 12333, United States Intelligence Activities, paragraphs 1.1(c), 1.1(d), 1.12(d), 2.3, 2.4, and 2.6; and E.O. 9397 (SSN).

Purpose(s):

To identify and manage the careers of individuals performing duties in the Department of the Army specialized intelligence and counterintelligence assignments.

Routine uses of records maintained in the system, including categories of users and the purposes of such uses:

In addition to those disclosures generally permitted under 5 U.S.C. 552a(b) of the Privacy Act, these records or information contained therein may specifically be disclosed outside the DoD as routine uses pursuant to 5 U.S.C. 552a(b)(3) as follows:

The ‘Blanket Routine Uses’ published at the beginning of the Army's compilation of systems of records notices also apply to this system.

Policies and practices for storing, retrieving, accessing, retaining, and disposing of records in the system:

Storage:

Paper records in file folders and on electronic storage media.

Retrievability:

By name, date and place of birth, and Social Security Number.

Safeguards:

Buildings employ alarms, security guards and or rooms are security controlled areas accessible only to authorized persons. Paper records are maintained in General Service Administration approved security containers. Electronic records are maintained in specialized software with password protected access and data backup measures. Records are accessible only to authorized persons who are properly screened, cleared, and trained.

Retention and disposal:

Records are retained in active file until release, separation, transfer, retirement or resignation by individual; retained in inactive file for 5 years; and retired to the IRR where file is destroyed 15 years after date of last action by shredding, burning or pulping, and magnetic erasing for electronic records.

System manager(s) and address:

Deputy Chief of Staff for Intelligence, Headquarters, Department of the Army, 1001 Army Pentagon, Washington, DC 20310-1001.

Notification procedure:

Individuals seeking to determine whether information about themselves is contained in this system should address written inquiries to the United States Army Intelligence and Security Command, Freedom of Information/Privacy Office, 4552 Pike Road, Fort Meade, MD 20755-5995.

Individuals must furnish his/her full name, any alias, Social Security Number, date and place of birth, current address, telephone number, and a notarized signature or contact 1-866-548-5651 or e-mail the INSCOM FOIA office at INSCOM_FOIA_ServiceCenter@mi.army.mil.

Record access procedures:

Individuals seeking to determine whether information about themselves is contained in this system should address written inquiries to the United States Army Intelligence and Security Command, Freedom of Information/Privacy Office, 4552 Pike Road, Fort Meade, MD 20755-5995.

Individuals must furnish his/her full name, any alias, Social Security Number, date and place of birth, current address, telephone number, and a notarized signature or contact 1-866-548-5651 or e-mail the INSCOM FOIA office at INSCOM_FOIA_ServiceCenter@mi.army.mil.

Contesting record procedures:

The Army's rules for accessing records, and for contesting contents and appealing initial agency determinations are contained in Army Regulation 340-21; 32 CFR part 505; or may be obtained from the system manager.

Record source categories:

From the individual and investigative reports of Defense Security Service, U.S. Army Intelligence and Security Command, and other Federal and Department of Defense investigative and law enforcement agencies.

Exemptions claimed for the system:

Parts of this system may be exempt under 5 U.S.C. 552a(k)(1), (k)(2), or (k)(5), as applicable.

An exemption rule for this system has been promulgated in accordance with requirements of 5 U.S.C. 553(b)(1), (2), and (3), (c), and (e) and published in 32 CFR part 505. For additional information contact the system manager.

[FR Doc. E8-24432 Filed 10-14-08; 8:45 am]

BILLING CODE 5001-06-P